DEPARTMENT OF TRANSPORTATION

Federal Motor Carrier Safety Administration

[FMCSA Docket No. FMCSA-2000-8410]

Younger Commercial Driver Pilot Training Program

AGENCY: Federal Motor Carrier Safety Administration (FMCSA), DOT.

ACTION: Notice of receipt of proposal to initiate a pilot program; request for comments.

SUMMARY: The FMCSA announces it has received a proposal to initiate a pilot program to allow carefully selected, screened, trained and monitored individuals between the ages of 18 and 21 to work in truck driver jobs in interstate commerce. The FMCSA received the proposal from the Truckload Carriers Association (TCA) for approval of a pilot program that would include providing each participant with an exemption under 49 CFR part 381. The proposal is available in the public docket. Under current regulations, a driver must be at least 21 years of age to operate a commercial motor vehicle (CMV). We request comments on TCA's proposed pilot program as part of our review process.

DATES: We must receive your comments by May 21, 2001. We will consider comments received after the comment closing date to the extent practicable.

ADDRESSES: You can mail, fax, hand deliver or electronically submit written comments to the Docket Management Facility, U.S. Department of Transportation, Dockets Management Facility, Room PL-401, 400 Seventh Street SW., Washington, DC 20590-0001 FAX (202) 493-2251, on-line at http://dmses.dot.gov/submit. Comments submitted on the web site may be typed on-line or submitted as an attached file in one of the following acceptable formats: (1) American Standard Code Information Interchange (ASCII)(TXT); (2) MS Word for Mac (Versions 6 to 8); (4) Portable Document Format (PDF); (5) Tag Image File Format (TIF); (6) Rich Text File (RTF); or (7) Word Perfect (WPD) (Versions 7 and 8). You must include the docket number that appears in the heading of this document in your comment. You can examine and copy all comments at the above address from 9 a.m. to 5 p.m., e.t., Monday through Friday, except Federal holidays. If you want notification of receipt of comments, please include a self-addressed, stamped envelope or postcard or include a copy of the acknowledgment page that appears after you submit comments electronically.

FOR FURTHER INFORMATION CONTACT: Ms. Angeli Sebastian, Office of Bus and Truck Standards and Operations, (202) 366-4001, or Ms. Elaine Walls, Office of the Chief Counsel, (202) 366-1394, Federal Motor Carrier Safety Administration, 400 Seventh Street, SW., Washington, DC 20590. Our office hours are from 7:45 a.m. to 4:15 p.m., e.t., Monday through Friday, except Federal holidays.

SUPPLEMENTARY INFORMATION:

Background

Under longstanding Federal safety regulations (49 CFR 391.11(b)(1)), the minimum qualifications for a person to drive a CMV includes a requirement that the driver be at least 21 years of age. In its proposal, TCA states that the trucking industry has suffered from a long-standing and chronic shortage of drivers that has led to significant competition for drivers among trucking employers and high turnover. TCA's proposal is available for review in the public docket.

TCA states that many trucking companies find themselves with equipment that is unused because they cannot hire and retain enough safe drivers. More particularly, TCA states that the Federal regulation mandating a minimum age of 21 for interstate drivers is a barrier to employment because the usual three-year wait after high school graduation to enter commercial driver employment encourages potential employees to settle in other career fields.

TCA has asked the FMCSA to approve a pilot program on behalf of member companies who are willing to abide by the standards established for the program. These carriers would agree to incur the expense of providing job opportunities for drivers finishing the training program and for close supervision and monitoring of the safety progress of the younger drivers enrolled in the program. TCA's proposal would allow a non-TCA member motor carrier to participate in the pilot program if it abides by all the standards established for the program.

FMCSA Authority Concerning Pilot Programs

On June 9, 1998, the President signed the Transportation Equity Act for the 21st Century (TEA-21) (Pub. L. 105-178, 112 Stat. 107). Section 4007 of the TEA-21 amended 49 U.S.C. 31315 and 31136(e) concerning the Secretary of Transportation's (the Secretary's) authority to grant waivers from the Federal Motor Carrier Safety Regulations (FMCSRs) for anyone seeking relief from the requirements. The statute provides the Secretary with the authority to grant waivers and exemptions.

On December 8, 1998, the agency published an interim final rule on waivers, exemptions, and pilot programs (63 FR 67612). 49 CFR 381 subparts D, E and F (sections 381.400 to 381.600) codifies section 4007(c) of TEA-21 and explains the procedures followed by the agency when considering proposals for pilot programs.

Section 4007 of the TEA-21 authorizes the Secretary to conduct pilot programs to allow innovative alternatives to certain provisions of the FMCSRs to be tested. During a pilot program, the FMCSA may grant an exemption to approved participants. These programs may include exemptions from one or more regulations. The FMCSA must publish in the Federal Register a detailed description of each pilot program, including the exemptions being considered, and provide notice and an opportunity for public comment before the effective date of the program. In order to approve a pilot program, FMCSA is required to demonstrate that the safety measures in the pilot programs are designed to achieve a level of safety that is equivalent to, or greater than, the level of safety that would be achieved through compliance with the safety regulations. The duration of pilot programs is limited to three years from the starting date.

The FMCSA is required to immediately revoke participation of a motor carrier, an operator of a commercial motor vehicle, or a driver for failure to comply with the terms and conditions of the pilot program, or to immediately terminate a pilot program if continuing it is inconsistent with the goals and objectives of the safety regulations issued under the authority of 49 U.S.C. Chapter 313 or 49 U.S.C. 31136. These requirements are set out in 49 CFR 381.510.

The pilot program plan must include a specific data collection and safety analysis plan that identifies a method for comparison for determining an equivalent level of safety. A reasonable number of participants are necessary to yield statistically valid findings. There must also be a plan to inform State partners and the public about the pilot program and to identify approved participants to safety compliance and enforcement personnel and to the public. The pilot program plan must include adequate countermeasures to protect the health and safety of study participants and the general public. An oversight plan must be in place to ensure that participants comply with the terms and conditions of participation.

At the conclusion of each pilot program, the FMCSA is required to report its findings and conclusions of the study to Congress and make any recommendations it determines appropriate as a result of the study (see section 4007(c)(5) of the TEA-21 and 49 CFR 381.520). This would include suggesting amendments to laws and regulations that would enhance motor carrier, CMV, and driver safety and improve compliance with the FMCSRs.

Overview of the Proposed Pilot Program

On October 2, 2000, the TCA sent the FMCSA a petition for a pilot program to allow drivers under age 21 to operate CMVs in interstate commerce. The proposal builds on earlier work the TCA discussed with staff at FMCSA and includes a proposed curriculum and a document labeled “Questions and Answers.” The petition and these two supporting documents are available in the public docket described under ADDRESSES above.

The pilot program proposed by TCA would involve a minimum of 48 weeks of intensive classroom and driving instruction and supervision that is designed to lead to full-time employment as an interstate commercial motor vehicle driver in the trucking industry. Each younger driver (18 to 21 years of age) would attend an approved truck driver training school for a minimum of 22 weeks and receive 8 weeks of training in a motor carrier's “driver finishing” program (a course of instruction and on-the-job training offered by motor carriers that would further develop the younger driver's basic skills, as well as develop greater maturity and judgment, under the daily direction and guidance of an experienced driver trainer). This would be followed by 18 weeks of team driving with an older, more experienced driver. Younger drivers would be required to pass the performance standards of the entire 48-week program and reach the age of 19 to begin solo driving.

Structure of the Younger Commercial Driver Training and Exemption Pilot Program

The proposed plan is grounded upon a consortium of participating schools and motor carriers that would train approximately 1000 drivers who are under the Federal minimum age requirement of 21. TCA's proposal stated that the number of participating schools is expected to be approximately ten.

The proposal includes expressions of interest from The American Institute of Technology in Phoenix, AZ; John Wood Community College of Quincy, IL; National Tractor-Trailer School in Liverpool and Buffalo, NY; Allstate Career School in Lester, PA; Houston Community College in Houston, TX; Bates Technical Institute in Tacoma, WA; and Fox Valley Technical College in Appleton, WI. In addition, Arkansas State University in Newport, AR, and Delta Technical Institute in Marked Tree, AR, have submitted applications to have their driver training courses certified as equivalent to the curriculum submitted by TCA and developed by the Professional Truck Driver Institute (PTDI) in order to participate in the pilot program.

A new course of instruction has been developed specifically for the proposed pilot program. The course standards and curriculum were developed by PDTI based on the experience, needs and challenges facing an 18 to 20 year old driver. The proposed program involves a minimum of 48 weeks of intensive classroom and behind-the-wheel (BTW) instruction and supervision that leads to full-time employment as an interstate commercial driver. TCA states that it is designed to provide qualified entry-level 18 to 20 year old drivers with a program of instruction in the safe and responsible operation of tractor-trailer vehicles that enables them to advance to solo drivers. The program would be nearly 4 times the length of the average entry-level truck driver training course for students 21 and older. A regular PTDI-approved entry-level course lasts between 6 to 8 weeks. The proposed pilot program would require 22 weeks of instruction. The driver finishing phase for current entry-level training programs typically lasts 4 to 6 weeks. Driver finishing under the proposed pilot program would last 8 weeks. The proposed pilot program adds an additional “team driving” requirement for 18 weeks before the 18 to 20-year old is cleared to drive solo.

PTDI/TCA hosted a meeting of interested motor carriers, truck driver training schools and insurance companies in Washington, DC on March 8 and 9, 2000, to review the PTDI Standards and Requirements for Entry-Level Tractor and Trailer courses and Certification Standards and Requirements for Tractor-trailer Driver Finishing Programs as a baseline for the development of the Younger Driver Program Standards. On May 3, 2000, the PDTI Board of Directors approved the skill, curriculum, and course standards that are included as attachment B to the TCA proposal in the docket.

TCA expects that twenty carriers or fewer would participate in the proposed pilot program, and the proposal includes expressions of interest from Maverick Transportation in Little Rock, AR; P.A.M. Transport in Tontitown, AR; Ronnie Dowdy, Inc. in Batesville, AZ; Southern Transit in Fort Smith, AK; USA Truck in Van Buren, AR; Willis Shaw Express in Elm Springs, AR; PGT Trucking in Monaca, PA; US Express Enterprises in Chattanooga, TN; Schneider National Carrier, Inc. in Green Bay, WI; Werner Enterprises in Omaha, NE; D.M. Bowman in Williamsport, MD; and CRST in Cedar Rapids, IA.

PTDI would prepare an application to identify qualifying schools and carriers, together with a self-evaluation report to help in the initial school and carrier selection process. It would send final standards and an application to interested schools and carriers in sufficient time for them to adopt any necessary changes before the pilot program begins. PTDI would prepare an evaluation manual for schools and carriers.

The Eligible Student Driver

Under the proposed plan, a student would be required to meet minimum DOT, State, Federal and/or local laws and regulations related to physical requirements for truck drivers without any exemption required (except age), pass a drug screening test administered by the school, possess a driving record with no chargeable crashes (excluding minor crashes with damage only to property), have no DOT-reportable crashes, no serious speeding tickets (i.e., 15 miles above the posted limit), and have no citations or convictions in connection with crashes or traffic violations, such as, reckless driving or driving under the influence of drugs or alcohol. Under the proposal, if a student violates any one of the eligibility requirements in any phase of the pilot program, the student would be expelled from the program.

In the proposal, each student would be required to be a high school graduate, hold a high school equivalency diploma, or be determined to have a demonstrated “ability to benefit” which requires passage of a standardized test administered by the United States Department of Education. A carrier participating in a pilot program would need to approve a student driver's qualifications; a carrier would need to make a conditional offer of employment when the student enters the program. Further, the potential student driver would need to pass a screening test, administered by a third party, that would inquire into a potential driver candidate's behavior, aptitude, strengths and weaknesses, and job expectations.

The Eligible School

Under the proposal, an eligible school would be required to have a training course certified by PTDI or an equivalent course. The school would be required to have sufficient accreditation so that younger drivers are eligible for Federal student loans. Schools would need to secure certification from PTDI or an equivalent certifying-body for a new course that is designed especially for this pilot program. The new course would incorporate instruction material that teaches life skills, over-the-road management, financial management, and family management, as well as advanced truck driving knowledge and skills.

Participants also would receive instruction in the U.S. Department of Transportation's “No-Zone” program, which provides information on the location of the truck's blind spots, the Federal Motor Carrier Safety Regulations, and other valuable information about how to share the road with other highway users.

Under the proposal, the course would last a minimum of 22 weeks (or 460 hours) and include 14 weeks (or 280 hours) of classroom instruction as well as 8 weeks (or 160 hours) of instruction actually in the truck. The student would spend at least 88 hours of the 160 total hours BTW, with an additional 72 hours spent either BTW or observing the operation of the truck by another student or course instructor. Tuition for the school portion of the proposed pilot program could range from $4,500-$10,000 per student.

The Eligible Carrier

Under the proposal, a carrier (employer) participating in the pilot program would have to have a “Satisfactory” U.S. DOT safety rating and a crash rate below the industry average, according to DOT statistics. Its insurance company would have to agree to provide coverage for younger drivers on a selective basis. The carrier would have to agree to assure trucks operated by the younger drivers would travel no more than 68 miles per hour and participate in a “1-800 How's My Driving” or comparable program that allows motorists to report any unsafe driving behavior to the company through a toll free number. Further, the carrier would have to agree not to allow younger drivers to operate CMVs which would require any type of commercial driver's license endorsement (i.e., hazardous materials, double/triple trailers, tank vehicles, passengers) while in the program.

Program Monitoring

The proposed pilot program would last 3 years and would include the following monitoring procedures and elements by the sponsor TCA:

1. Finishing Program. A driver finishing program is a course of instruction and on-the-job training offered by motor carriers. The driver finishing program offered by participant carriers in the pilot program would have to be certified by PTDI (or an equivalent body) and include at least 8 weeks (or 460 hours) of training with a carefully screened, professional driver-trainer. Of the 460 hours, 288 would be BTW hours with a trained driver. The minimum number of hours is an average of 36 hours per week over the eight weeks of training and in strict compliance with the hours of service requirement. The additional 172 hours could be observational or driving time. The participant carrier would pay each student an agreed upon rate during the finishing process.

Under the proposal, a driver-trainer would be required to be at least 25 years old, have at least one year of experience as a licensed commercial driver, and during the previous 12 months, have no chargeable/recordable crashes, have no driver out-of-service violations and no convictions for any violations listed in the commercial driver's license regulations (49 CFR 383.5 and 383.51). In addition, the driver-trainer would be required to satisfy all State regulatory requirements and any additional requirements under the carrier's safety policies and meet all Federal or provincial motor carrier safety regulations or other Federal or State requirements that relate to the operation of a commercial motor vehicle. Finally, the driver-trainer would be required to be experienced in all four seasons of driver operations; to have completed a 3-day program on coaching and communication skills; and to have satisfied company management, through examination or otherwise, that he or she is qualified to be a driver trainer in the pilot program. The carrier would be required to have a mentoring program that would assign a mentor to the younger driver from the first day of employment until the driver turned 21. Mentors would receive special training; interaction between the mentor and the younger driver would occur regularly, and mentors would be required to be outside the direct supervisory and appraisal loop of the training. The carrier would regularly communicate with the school regarding the student's progress through the program.

2. Team Operations. After completion of the finishing program and after the school and carrier agree that a student exhibits the necessary and desirable skills and judgment, he or she would transition to a team operation for a minimum of 18 weeks (or 720 hours of BTW). Under the proposal, the lead team driver would have the following qualifications: 25 years of age or older; no chargeable (excluding minor damage to property only) or DOT-recordable crashes in the previous 12 months; no convictions for any violations listed in commercial driver's license regulations (49 CFR 383.5 and 383.51) in the previous 12 months; and at least one year of experience as an over-the-road driver in solo operations. During the team-driving phase of the program, the younger driver would earn a salary that will be above the minimum wage.

3. Solo Ready. Under the proposal, the carrier and school would agree when a student, who is at least 19 years of age, is eligible to drive solo. The carrier would monitor the driver's performance and provide safety training every three months until the driver was 21 years of age. During the solo phase, students participating in the pilot program could change driving jobs, but only to work for another carrier participating in the pilot program. If a younger driver drops out, the exemption issued under the program would be revoked, and the student would not be eligible to drive a CMV until he or she reaches the age of 21.

4. Monitoring and Evaluation. Under the TCA proposal, each carrier participating in the program would provide monitoring of each younger driver from the day the driver began team driving operations until the driver's 21st birthday. To satisfy the monitoring requirements, monitoring would, at a minimum, include: face-to-face meetings with the younger driver every 3 months; monthly reviews of the younger driver's hours-of-service logs; regular analysis of maintenance records for the truck operated by the younger driver; and immediate temporary or permanent suspension from driving in the event of any crashes, moving violations, or out-of-service violations.

Carriers would follow a prescribed program to ensure, on a continuing basis, that the younger driver possessed and exhibited the skills and judgment necessary to operate a commercial motor vehicle safely. Participating carriers would be required to pay specific attention to hours-of-service compliance, out-of-service violations, crashes, and moving violations. TCA would develop and enforce disqualification criteria.

TCA proposes that a younger driver would be temporarily removed from the pilot program if he or she received any citation, in a commercial or private vehicle, for speeding, driving under the influence, or reckless driving, and permanently removed if convicted. Any at-fault crash on public roads or highways would similarly bar a younger driver from continued participation in the pilot program. Any other violation or demonstrated instance of poor judgment would require the younger driver, if he or she desires to remain in the program, to submit to carrier or school-sponsored counseling to evaluate the driver's attitude, behavior, judgment, and understanding of applicable regulations.

FMCSA Evaluation of the Proposal

The FMCSA has received this proposal submitted in accord with 49 CFR 381.410 and is interested in public comment on whether such a pilot program can ensure a level of safety that is equal to or greater than the level of safety achieved by CMV drivers 21 years of age or older who are not otherwise subject to specialized selection, training, and monitoring beyond that otherwise required by the CDL. The proposal includes screening and selection, lengthy training, follow-up, and monitoring elements. The FMCSA is interested in the specific make-up of the proposal and any additional procedures and monitoring elements that a commenter believes are necessary. For example, should FMCSA also require each mentor to meet with his or her assigned younger driver no less than once each month and for each younger driver to carry a telephone number of a responsible trainer or monitor that can be used by enforcement personnel if a driver or vehicle is placed out-of-service.

If the FMCSA determines to go forward with a pilot program, it will propose for public comment its complete proposed pilot program, including a monitoring program to oversee continuous compliance to meet the requirements of the TEA-21 and our regulations.

Questions for Comment

The FMCSA is soliciting comments on TCA's proposed pilot program to assist FMCSA in making a determination on whether it can proceed with a complete pilot program that will meet the requirements of the TEA-21 and FMCSA regulations.

1. Does TCA's proposed pilot program meet the standards for pilot programs outlined in the TEA-21 and FMCSA regulations (49 CFR part 381 subparts D, E and F)?

2. What factors should FMCSA consider when evaluating TCA's proposed pilot program?

3. What methodology should the FMCSA use in determining the appropriateness of curriculum, criteria for selection of carriers, schools, and drivers?

4. Could TCA's proposal achieve a level of safety that is equivalent to, or greater than, the level of safety that would be achieved by complying with the FMCSRs?

5. Will subjecting younger drivers to more rigorous training and a finishing program achieve a level of safety equivalent to drivers 21 years old or older who do not have to undergo such a program?

6. At what point could the FMCSA issue an exemption to a younger driver participating in the training program?

Commenters are not limited to responding to the above questions. Commenters may submit any facts or views consistent with the intent of this notice. Commenters should not submit other curricula proposals or other proposals to initiate pilot programs as part of a comment.

Issued on: February 12, 2001.
Julie Anna Cirillo,
Assistant Administrator and Chief Safety Officer.

[FR Doc. 01-4098 Filed 2-16-01; 8:45 am]

BILLING CODE 4910-EX-U